FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011906-001.

Title: HSDG/ELJSA Space Charter Agreement.

Parties: Hamburg Sud and Evergreen Marine Corp. (Taiwan) Ltd.

Filing Party: Wayne R. Rohde, Esq.; Sher & Blackwell LLP; 1850 M Street, NW.; Suite 900; Washington, DC 20036.

Synopsis: The amendment would substitute Evergreen Line Joint Service Agreement (“ELJSA”) for Evergreen Marine Corp. and address ELJSA's obligations in light of this substitution. It would also clarify Article 10 and rename and restate the agreement.

Agreement No.: 011998-001.

Title: CSAV/EUKOR Venezuela Space Charter Agreement.

Parties: EUKOR Car Carriers, Inc. and Compania Sud Americana de Vapores.

Filing Party: Walter H. Lion, Esq.; McLaughlin & Stern, LLP; 260 Madison Ave.; New York, NY 10016.

Synopsis: The amendment adds the port of Jacksonville, Florida, to the geographic scope of the agreement.

Agreement No.: 012003.

Title: APL/CMA CGM/HMM/MOL China/U.S. East Coast Via Panama Vessel Sharing Agreement.

Parties: APL Co. Pte Ltd.; American President Lines, Ltd.; CMA CGM S.A.; Hyundai Merchant Marine Co., Ltd.; and Mitsui O.S.K. Lines, Ltd.

Filing Party: David B. Cook, Esq.; Goodwin Proctor LLP; 901 New York Avenue, NW.; Washington, DC 20001.

Synopsis: The agreement authorizes the parties to share vessel space and engage in related cooperative activities in the trade between China (including Hong Kong) and Panama and the U.S. East Coast.

Agreement No.: 012004.

Title: HMM/ELJSA Slot Exchange Agreement.

Parties: Hyundai Merchant Marine Co., Ltd. and Evergreen Line Joint Service Agreement.

Filing Party: Paul M. Keane, Esq.; Cichanowicz, Callan, Keane, Vengrow & Textor, LLP; 61 Broadway; Suite 3000; New York, NY 10006-2802.

Synopsis: The agreement authorizes the parties to exchange container slots in the trade between U.S. East Coast ports and ports in China, Japan, South Korea, Taiwan, and Panama. This agreement replaces an earlier agreement between the parties in the trade.

Agreement No.: 201162-002.

Title: NYSA-ILA Assessment Agreement.

Parties: New York Shipping Association, Inc. and the International Longshoremen's Association, AFL-CIO for the Port of New York and New Jersey.

Filing Parties: Richard P. Lerner, Esq.; The Lambos Firm; 29 Broadway—9th Floor; New York, NY 10006; and Andre Mazzola, Esq.; Gleason, Marrinan & Mazzola Mardon, P.C.; 26 Broadway—17th Floor; New York, NY 10004.

Synopsis: The amendment revises and sets assessment rates for certain containers.

By Order of the Federal Maritime Commission.
Dated: June 8, 2007.
Karen V. Gregory,
Assistant Secretary.

[FR Doc. E7-11411 Filed 6-12-07; 8:45 am]

BILLING CODE 6730-01-P